DEPARTMENT OF ENERGY

Federal Energy Regulatory Commission

[Docket No. RD23-6-000]

Commission Information Collection Activities (FERC-725A(1D) and FERC-725Z); Comment Request; Revision

AGENCY: Federal Energy Regulatory Commission.

ACTION: Notice of information collections and request for comments.

SUMMARY: In compliance with the requirements of the Paperwork Reduction Act of 1995, the Federal Energy Regulatory Commission (Commission or FERC) is soliciting public comment on the currently approved information collections, FERC-725A(1D) (Mandatory Reliability Standards for the Bulk-Power System TOP-003-6.1) and FERC-725Z (Mandatory Reliability Standards for the Bulk-Power System IRO-010-5 Reliability Standards).

DATES: Comments on the collections of information are due February 12, 2024.

ADDRESSES: You may submit copies of your comments (identified by Docket No. RD23-6-000) by one of the following methods:

• Electronic Filing: Documents must be filed in acceptable native applications and print-to-PDF, but not in scanned or picture format. Electronic filing through http://www.ferc.gov, is preferred.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: All submissions must be formatted and filed in accordance with submission guidelines at: http://www.ferc.gov. Please ensure each comment refers to the appropriate collection. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Jean Sonneman may be reached by email at DataClearance@FERC.gov, telephone at (202) 502-6362.

SUPPLEMENTARY INFORMATION:

Titles: FERC-725Z, Mandatory Reliability Standards: IRO Reliability Standards, and FERC-725A(1D), Mandatory Reliability Standards for the Bulk-Power System Reliability Standards (TOP-003-6.1).

Action: Proposed Changes to Collections.

OMB Control Nos.: 1902-0276 (FERC-725Z); 1902-0324 (FERC-725A(1D)).

Type of Request: Modification of the FERC-725Z and FERC-725A(1D) information collection requirements.

Abstract: On 9/21/2023, the North American Electric Reliability Corporation (NERC) filed a petition on the proposed Modifications to Reliability Standards IRO-010 and TOP-003 to improve the approaches used for data and information specification and exchange by, among other things: (i) clarifying that specifications include both data and information; (ii) requiring the identification of the applicable entity that is required to respond to the request for the specification; (iii) including a data conflict resolution provision within the data specification requirement; (iv) clarifying that specifications should include protocols to address periodicity, performance criterion, and update and correction mechanisms; and (v) consolidating the format and security protocols within the data specification requirements.

The proposed Modifications to FERC-725Z for IRO-010-5 and FERC-725A(1D) for TOP-003-6.1, address recommendations arising from the SER Phase 2 Team by clarifying, consolidating, and improving approaches for data and information specification and exchange. The proposed revisions are intended to advance the reliability of the Bulk-Power System (“BPS”) by ensuring that Registered Entities with operational responsibilities are able to request and receive the data and information necessary to support Operational Planning Analysis, Real-time Assessments, Real-time monitoring, and Balancing Authority analysis functions in an optimal manner.

The proposed modifications would advance the reliability of the BPS by facilitating improved coordination of information and data sharing, thus allowing the entities responsible for the reliable operation of the BPS to request and receive data and information necessary to support Operational Planning Analysis, Real-time Assessments, Real-time monitoring, and Balancing Authority analysis functions in an optimal manner.

The changes being implemented primarily affect the reliability coordinator in IRO-010-5 and the transmission operator and balancing authority in TOP-003-6.1 with other entities have much lower burden. Additionally, the burden is expected to only be needed for years 1 and 2 as the burden is only focused on procedures for sharing data and moving details from one requirement to another within the same standard. After year two with procedures fully in place there are no expectations for additional burden to continue as documents will be in place. The existing burden will remain the same until updated further for these reliability standards.

These Standards, FERC-725A(1D) (Temporary placeholder for FERC-725A) for TOP-003-6.1, FERC-725Z for IRO-010-5, which are all currently approved information collections.

Type of Respondents: NERC-registered entities including generator owner, generator operator, reliability coordinator, balancing authorities, distribution provider, transmission owner, and transmission operators.¹

¹ In subsequent portions of this notice, the following acronyms will be used: DP = Distribution Provider, BA = Balancing Authority, RC = Reliability Coordinator, TOP = Transmission Owner, GO = Generator Owner, GOP = Generator Operator, TOP = Transmission Operator.

Estimate of Annual Burden: ² The Commission estimates the annual public reporting burden and cost for the information collections as: ³

² “Burden” is defined as the total time, effort, or financial resources expended by persons to generate, maintain, retain, or disclose or provide information to or for a Federal agency. For further explanation of what is included in the information collection burden, reference 5 Code of Federal Regulations 1320.3.

³ https://www.nerc.com/FilingsOrders/us/NERC%20Filings%20to%20FERC%20DL/Petition%20for%20Approval%20of%20IRO-010%20and%20TOP-003_final.pdf.

Reliability Standard IRO-010-5 (Reliability Coordinator Data Specification and Collection)

Reliability Standard TOP-003-6.1 (Transmission Operator and Balancing Authority Data and Information Specification and Collection)

⁴ Values represent unique U.S. entities as based on the NERC compliance registry information as of September 22, 2023.

⁵ The estimated hourly cost (salary plus benefits) is a combination based on the Bureau of Labor Statistics (BLS), as of 2023, for 75% of the average of an Electrical Engineer (17-2071) $77.29/hr., 77.29 × .75 = 57.9675 ($57.97-rounded) ($57.97/hour) and 25% of an Information and Record Clerk (43-4199) $39.58/hr, $39.58 × .25% = 9.895 ($9.90 rounded) ($9.90/hour), for a total ($57.97 + $9.90 = $67.87/hour).

TOP-003-6.1—Transmission Operator and Balancing Authority Data and Information Specification and Collection for Years 1 and 2
| Number of respondents ⁴ | Annual number of responses per respondent | Annual number of responses | Average burden hours & cost per response | Total annual burden hours & cost
Type of entity | (1) | (2) | (1) * (2) = (3) | (4) ⁵ | (3) * (4) = (5)
FERC-725A(1D), OMB Control No. 1902-0324
TOP | 166 | 1 | 166 | 80 hrs.; $5,429.60 | 13,280 hrs.; $901,313.60.
BA | 98 | 1 | 98 | 80 hrs.; $5,429.60 | 7,840 hrs.; $532,100.80.
TO | 323 | 1 | 323 | 8 hrs.; $542.96 | 2,584 hrs.; $175,376.08.
GOP | 1,002 | 1 | 1,002 | 8 hrs.; $542.96 | 8,016 hrs.; $544,045.92.
GO | 1,164 | 1 | 1,164 | 8 hrs.; $542.96 | 9,312 hrs.; $632,005.44.
DP | 301 | 1 | 301 | 8 hrs.; $542.96 | 2,408 hrs.; $163,430.96.
FERC-725A(1D) for TOP-003-6.1 Total Years 1 & 2 |  |  |  |  | 43,440 hrs.; $2,948,272.80.
FERC-725A(1D) for TOP-003-6.1 Total Year 3 and beyond |  |  |  |  | No Change to existing burden.

IRO-010-5—Reliability Coordinator Data and Information Specification and Collection for Years 1 and 2
| Number of respondents ⁶ | Annual number of responses per respondent | Total number of responses | Average burden & cost per response | Total annual burden hours & total annual cost
Type of entity | (1) | (2) | (1) * (2) = (3) | (4) ⁷ | (3) * (4) = (5)
FERC-725Z, OMB Control No. 1902-0276
RC | 12 | 1 | 12 | 80 hrs.; $5,429.60 | 960 hrs.; $65,155.20.
BA | 98 | 1 | 98 | 8 hrs.; $542.96 | 784 hrs.; $53,210.08.
GO | 1,164 | 1 | 1,164 | 8 hrs.; $542.96 | 9,312 hrs.; $632,005.44.
GOP | 1,002 | 1 | 1,002 | 8 hrs.; $542.96 | 8,016 hrs.; $544,045.92.
TOP | 166 | 1 | 166 | 8 hrs.; $542.96 | 1,328 hrs.; $90,131.36.
TO | 323 | 1 | 323 | 8 hrs.; $542.96 | 2,584 hrs.; $175,376.08.
DP | 301 | 1 | 301 | 8 hrs.; $542.96 | 2,408 hrs.; $163,430.96.
FERC-725Z for IRO-010-5 Total Years 1 & 2 |  |  |  |  | 25,392 hrs.; $1,723,355.04.
FERC-725Z for IRO-010-5 Total Year 3 and beyond |  |  |  |  | No Change to existing burden.

The total annual estimated burden and cost for the FERC-725A(1D) information collection is 43,440 hours and $2,948,272.80. FERC 725Z is 25,392 hours and $1,723,355.04 respectively.

⁶ Values represent unique U.S. entities as based on the NERC compliance registry information as of September 22, 2023.

⁷ The estimated hourly cost (salary plus benefits) is a combination based on the Bureau of Labor Statistics (BLS), as of 2022, for 75% of the average of an Electrical Engineer (17-2071) $77.29/hr., 77.29 × .75 = 57.9675 ($57.97-rounded) ($57.97/hour) and 25% of an Information and Record Clerk (43-4199) $39.58/hr, $39.58 × .25% = 9.895 ($9.90 rounded) ($9.90/hour), for a total ($57.97 + $9.90 = $67.87/hour).

Comments: Comments are invited on: (1) whether the collections of information are necessary for the proper performance of the functions of the Commission, including whether the information will have practical utility; (2) the accuracy of the agency's estimate of the burdens and costs of the collections of information, including the validity of the methodology and assumptions used; (3) ways to enhance the quality, utility and clarity of the information collections; and (4) ways to minimize the burden of the collections of information on those who are to respond, including the use of automated collection techniques or other forms of information technology.

Dated: December 6, 2023.
Kimberly D. Bose,
Secretary.

[FR Doc. 2023-27221 Filed 12-11-23; 8:45 am]

BILLING CODE 6717-01-P